DEPARTMENT OF LABOR

Employment and Training Administration

[TA-W-71,741]

JP Morgan Chase & Co., New York, NY; Notice of Termination of Investigation

Pursuant to Section 221 of the Trade Act of 1974, as amended, an investigation was initiated in response to a petition filed on July 21, 2009, by a One-Stop Operator/Partner on behalf of workers of JP Morgan Chase & Co., New York, New York.

The petitioner has requested that the petition be withdrawn. Accordingly, the investigation has been terminated.

Signed at Washington, DC, this 5th day of August 2009.
Richard Church
Certifying Officer, Division of Trade Adjustment Assistance.

[FR Doc. E9-20474 Filed 8-25-09; 8:45 am]

BILLING CODE 4510-FN-P